DEPARTMENT OF HEALTH AND HUMAN SERVICES

National Institutes of Health

Proposed Collection; Comment Request; Policies of Academic Institutions Regarding Tobacco Industry Research Funding

SUMMARY: In compliance with the requirement of Section 3506(c)(2)(A) of the Paperwork Reduction Act of 1995, for opportunity for public comment on proposed data collection projects, the national Cancer Institute (NCI), the National Institutes of Health (NIH) will publish periodic summaries of proposed projects to be submitted to the Office of Management and Budget (OMB) for review and approval.

Proposed Collection

Title: Policies of Academic Institutions Regarding Tobacco Industry Research Funding.

Type of Information Collection Request: NEW.

Need and Use of Information Collection: This study will assess current administrative policies of medical schools and schools of public health regarding faculty acceptance of research funding from tobacco manufacturers and trade organizations. The primary objectives of the study are to assess how many institutions have a tobacco-specific research funding policy, their reasons for adopting or not adopting such a policy, and what the requirements of those policies are. The finding will provide valuable information concerning: (1) How academic institutions have responded to concerns about researchers' funding relationships in tobacco research, (2) administrators' attitudes towards research funding policies targeted at tobacco specifically; and (3) what types of requirements have been imposed on academic researchers regarding tobacco funding.

Frequency of Response: Once.

Affected Public: Individuals; academic institutions.

Type of Respondents: academic administrators.

The annual reporting burden is as follows:

Estimated Number of Respondents: 156.

Estimated Number of Responses per Respondent: 1.

Average Burden Hours Per Response: .5.

Estimated Total Annual Burden Hours Requested: 78.

The annualized cost to respondents is estimated at: $780. There are no Capital Costs to report. There are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Mark Parascandola, Cancer Prevention Fellow, OPO, DCP, NCI, NIH, 6130 Executive Boulevard, Suite 3109, Bethesda, MD 20892, or call non-toll-free number (301) 594-1576 or E-mail your request, including your address to: paramark@mail.nih.gov.

Comments Due Date

Comments regarding this information collection are best assured of having their full effect if received on or before May 13, 2002.

Dated: February 19, 2002.
Reesa L. Nichols,
NCI Project Clearance Liaison.

[FR Doc. 02-5930 Filed 3-12-02; 8:45 am]

BILLING CODE 4140-01-M